DEPARTMENT OF JUSTICE

Notice of Lodging of Consent Decree Pursuant to the Comprehensive Environmental Response, Compensation and Liability Act

In accordance with Department of Justice policy codified at 28 CFR 50.7 and Section 122 of CERCLA, 42 U.S.C. 9622, notice is hereby given that on July 25, 2000, three proposed Consent Decrees in United States v. Raymond C. Wolf, et al., Civ. Action No. 1:99-CV-01032, were lodged with the United States District Court for the Northern District of Ohio. The three proposed Consent Decrees resolve the claims of the United States for recovery of response costs incurred by the United States in connection with the Lincoln Fields Superfund Removal Site (“Site”) in Madison Township, Ohio under section 107(a) of the Comprehensive Environmental Response, Compensation and Liability Act of 1980 (“CERCLA”), as amended, 42 U.S.C. 9607(a), against Raymond C. Wolf and Joanne R. Wolf (“the Wolfs”), Charles R. Sell and Wanda J. Sell (“the Sells”), and Dale M. Eberts (“Eberts”) (collectively, “Settling Defendants”). Each of the Settling Defendants are owners and operators of the Site, a portion of which was operated for twenty years as a dry cleaning business. EPA incurred approximately $12.3 million in conducting a removal action to address releases of tetrachloroethylene (or “PCE”) from the dry cleaning operation in the soil and groundwater at the site. Under the terms of the Wolf Consent Decree, the Wolfs agree to pay the United States $10,000 in response costs within 90 days of entry of the Consent Decree. In addition, the Wolfs agree to pledge to the United States 75% of the value of a piece of property (currently valued at approximately $800,000), which is a portion of the Site, upon its transfer. In consideration for these payments, the Wolfs will receive a covenant not to sue for Site response costs (which, based on certain conditions, extends to future Successors in Interest or Assigns of the Wolfs' property) and contribution protection. Under the terms of the Sells Consent Decree, the Sells agree to pay the United States $2,000 in response costs within 30 days of entry of the Consent Decree. In consideration for this payment, the Sells will receive a covenant not to sue for Site response costs and contribution protection. Under the terms of the Eberts Consent Decree, Dale Eberts agrees to pay the United States $5,000 in response costs within 30 days of entry of the Consent Decree. In consideration for this payment, Eberts will receive a covenant not to sue for Site response costs and contribution protection. Each of these settlements is based on the Settling Defendants' limited ability to pay.

The Department of Justice will receive for a period of thirty (30) days from the date of this publication comments relating to the proposed Consent Decrees. Comments should be addressed to the Assistant Attorney General of the Environment and Natural Resources Division, Department of Justice, 950 Pennsylvania Avenue, NW, Washington, D.C. 20530, and should refer to United States v. Raymond C. Wolf, et al. Civ. Action No. 1:99-CV-01032; D.J. Ref. No. 90-11-3-06281.

The Consent Decrees may be examined at the Office of the United States Attorney, 1800 Bank One Center, 600 Superior Avenue East, Cleveland, Ohio 44114-2600, and at the United States Environmental Protection Agency, Region 5, 77 West Jackson Boulevard, Chicago, Illinois 60604-3590. A copy of the Consent Decrees may also be obtained by mail from the Consent Decree Library, P.O. Box 7611, U.S. Department of Justice, Washington, D.C. 20044-7611. In requesting a copy of the Consent Decrees, please enclose a check payable to the Consent Decree Library in amount of $16.75 (67 pages at 25 cents per page reproduction cost) for all three Consent Decrees; or $8.75 (35 pages at 25 cents per page reproduction cost) for the Wolf Consent Decree; $4.00 each (16 pages at 25 cents per page reproduction cost) for the Sells Consent Decree and the Eberts Consent Decree.

Joel M. Gross,
Chief, Environmental Enforcement Section, Environment & Natural Resources Division.

[FR Doc. 00-20292 Filed 8-9-00; 8:45 am]

BILLING CODE 4410-15-M